DEPARTMENT OF HEALTH AND HUMAN SERVICES

National Institutes of Health

National Institutes of General Medical Sciences; Notice of Closed Meeting

Pursuant to section 10(d) of the Federal Advisory Committee Act, as amended (5 U.S.C. Appendix 2), notice is hereby given of the following meeting.

The meeting will be closed to the public in accordance with the provisions set forth in sections 552b(c)(4) and 552b(c)(6), Title 5 U.S.C., as amended. The grant applications and the discussions could disclose confidential trade secrets or commercial property such as patentable material, and persona information concerning individuals associated with the grant applications, the disclosure of which would constitutes a clearly unwarranted invasion of personal privacy.

Name of Committee: National Institutes of General Medical Sciences Special Emphasis Panel, Trauma and Burn.

Date: July 26, 2005.

Time: 9 a.m. to 11 a.m.

Agenda: To review and evaluation grant applications.

Place: National Institutes of Health, 45 Center Drive, 3AN18, Bethesda, MD 20892, (Telephone Conference Call).

Contact Person: Carole H. Latker, PhD, Scientific Review Administrator, Office of Scientific Review, National Institute of General Medical Sciences, National Institutes of Health, Natcher Building, Room 3AN-18, Bethesa, MD 20892, (301) 594-2848, latkerc@nigms.nih.gov.

(Catalogue of Federal Domestic Assistance Programs Nos. 93.375, Minority Biomedical Research Support; 93.821, Cell Biology and Biophysics Research; 93.859, Pharmacology, Physiology, and Biological Chemistry Research; 93.862, Genetic and Development Biology Research; 93.88, Minority Access to Research Center; 93.96, Special Minority Initiatives, National Institutes of Health, HHS.)

Dated: June 28, 2005.
LaVerne Y. Stringfield,
Director, Office of Federal Advisory Committee Policy.

[FR Doc. 05-13454 Filed 7-7-05; 8:45 am]

BILLING CODE 4140-01-M